DEPARTMENT OF COMMERCE

National Oceanic and Atmospheric Administration

[I.D. 111706C]

Incidental Take of Marine Mammals; Taking of Marine Mammals Incidental to Missile Launch Operations from San Nicolas Island, CA

AGENCY: National Marine Fisheries Service (NMFS), National Oceanic and Atmospheric Administration (NOAA), Commerce.

ACTION: Notice of issuance of a letter of authorization.

SUMMARY: In accordance with the Marine Mammal Protection Act (MMPA), as amended, notification is hereby given that a letter of authorization (LOA) to take three species of marine mammals incidental to missile launch operations from San Nicolas Island, CA (SNI) has been issued to the Naval Air Warfare Center Weapons Division (NAWC-WD), Point Mugu, CA.

DATES: This authorization is effective from February 3, 2007, through February 2, 2008.

ADDRESSES: The application, LOA, and Navy monitoring report are available for review in the Office of Protected Resources, NMFS, 1315 East-West Highway, Silver Spring, MD 20910 or by contacting one of the individuals mentioned below (See FOR FURTHER INFORMATION CONTACT).

FOR FURTHER INFORMATION CONTACT: Kenneth Hollingshead or Candace Nachman, NMFS, (301) 713-2289.

SUPPLEMENTARY INFORMATION: Section 101(a)(5)(A) of the MMPA (16 U.S.C. 1361 et seq.) directs NMFS to allow, on request, the incidental, but not intentional, taking of small numbers of marine mammals by U.S. citizens who engage in a specified activity (other than commercial fishing) within a specified geographical region, if certain findings are made by NMFS and regulations are issued. Under the MMPA, the term “taking” means to harass, hunt, capture, or kill or to attempt to harass, hunt, capture or kill marine mammals.

Authorization may be granted for periods up to five years if NMFS finds, after notification and opportunity for public comment, that the taking will have a negligible impact on the species or stock(s) of marine mammals and will not have an unmitigable adverse impact on the availability of the species or stock(s) for subsistence uses. In addition, NMFS must prescribe regulations that include permissible methods of taking and other means effecting the least practicable adverse impact on the species and its habitat and on the availability of the species for subsistence uses, paying particular attention to rookeries, mating grounds, and areas of similar significance. The regulations must include requirements pertaining to the monitoring and reporting of such taking. Regulations governing the taking incidental to target missile operations on San Nicolas Island, CA, were published on September 2, 2003 (68 FR 52132), and remain in effect until October 2, 2008.

Pursuant to these regulations, NMFS has issued an LOA to the NAWC-WD. Issuance of the LOA is based on findings made in the preamble to the final rule that the total takings by this project will result in only small numbers (as the term is defined in 50 CFR 216.103) of marine mammals being taken. In addition, given the implementation of the mitigation requirements contained in the LOA, the resultant incidental harassment will have no more than a negligible impact on the affected marine mammal stocks or habitats and will not have an unmitigable adverse impact on the availability of such species or stock for taking for subsistence uses. NMFS also finds that the applicant will meet the requirements contained in the implementing regulations and LOA, including monitoring and reporting requirements. This LOA will be renewed annually based on a review of the activity, completion of monitoring requirements and receipt of reports required by the LOA.

According to the draft technical report, the NAWC-WD performed a total of five missile launches between February and September 2006. Two Advanced Gun System (AGS) guided rounds were launched on 14 February; one Falcon rocket was launched on 6 April; and two AGS launches occurred on May 15, 2006. California sea lions were observed during four of five launches on all three launch dates. Northern elephant seals were observed during three launches on two dates. Harbor seals were observed during four launches on all three launch dates. Based on monitoring efforts between February and September 2006, the NAWC-WD estimates that approximately 295 sea lions, 13 harbor seals, and no elephant seals were affected by launch sounds. There was no evidence of injury or mortality during or immediately succeeding the launches for any pinniped species.

Dated: January 10, 2007.
James H. Lecky,
Director, Office of Protected Resources, National Marine Fisheries Service.

[FR Doc. E7-813 Filed 1-19-07; 8:45 am]

BILLING CODE 3510-22-S